COMMISSION ON CIVIL RIGHTS

Agenda and Notice of Public Meeting of the Maryland Advisory Committee

Notice is hereby given, pursuant to the provisions of the rules and regulations of the U.S. Commission on Civil Rights, that a meeting of the Maryland Advisory Committee to the Commission will convene at 9:30 a.m. and adjourn at 5 p.m. on Saturday, June 23, 2001, at the Government Office Building, Room 301, 125 N. Division Street, Salisbury, Maryland 21803. The purpose of the meeting is to: (1) Plan future activities, and (2) the Committee will hold a community forum to gather information on civil rights developments from representatives of minority groups and local government in Eastern Shore Maryland counties as part of its project entitled, “Civil Rights Issues in Maryland Small Towns and Rural Areas: Forums in Southern, Eastern Shore, and Western Counties.”

Persons desiring additional information, or planning a presentation to the Committee, should contact Chairperson K. Patrick Okura, 301-530-0945, or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, May 29, 2001.
Edward A. Hailes Jr.,
General Counsel.

[FR Doc. 01-13827 Filed 5-31-01; 8:45 am]

BILLING CODE 6335-01-P